DEPARTMENT OF TRANSPORTATION

Federal Aviation Administration

14 CFR Part 71

[Docket No. FAA-2016-6984; Airspace Docket No. 16-ANM-5]

Amendment of Class E Airspace, Salem, OR

AGENCY: Federal Aviation Administration (FAA), DOT.

ACTION: Final rule.

SUMMARY: This action modifies the Class E airspace extending upward from 700 feet above the surface at McNary Field, Salem, OR. After a review of the airspace, the FAA found additional airspace is required to support the current standard instrument approach and departure procedures for the safety and management of Instrument Flight Rules (IFR) operations at the airport.

DATES: Effective 0901 UTC, April 27, 2017. The Director of the Federal Register approves this incorporation by reference action under Title 1, Code of Federal Regulations, part 51, subject to the annual revision of FAA Order 7400.11A and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Richard Roberts, Federal Aviation Administration, Operations Support Group, Western Service Center, 1601 Lind Avenue SW., Renton, WA 98057; telephone (425) 203-4517.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at McNary Field, Salem, OR.

History

The airspace in the area of McNary Field, Salem, Oregon has been the subject of three recent airspace actions. In June 2015, the FAA issued a final rule modifying Class D airspace, Class E surface area airspace, Class E airspace extending upward from 700 feet above the surface, and removing Class E surface area airspace designated as an extension at McNary Field, Salem, OR (80 FR 37153, June 30, 2015). The FAA explained that due to the proposed cancellation of the Turno non-directional radio beacon (NDB) and cancellation of the NDB approach, a review of the airspace was completed, revealing an increase and reconfiguration of the airspace was needed for IFR operations. The final rule was effective August 20, 2015.

After August 20, 2015 the FAA received and considered additional public comments recommending further airspace changes. The FAA published a notice of proposed rulemaking (NPRM) on September 21, 2015 (80 FR 56935), proposing to modify Class D airspace, Class E surface area airspace, and Class E airspace extending upward from 700 feet above the surface at McNary Field. The FAA determined that some airspace was unnecessary for Standard Instrument Approach Procedures (SIAP) for instrument flight rules (IFR) operations at the airport. The FAA received 71 comments including 24 comments requesting that the airspace be returned to the configuration that was in place prior to August 20, 2015. The FAA issued another final rule on March 8, 2016 (81 FR 12002), explaining in response to the public comments that returning to the prior airspace configuration would not protect the IFR arrivals and departures or account for existing terrain.

After March 8, 2016, the FAA received additional public comments citing a potential safety issue with the Localizer (LOC) Y runway (RWY) 31, and the LOC/Distance Measuring Equipment (DME) Back Course (BC) approach to RWY 13. The FAA investigated this issue and on June 29, 2016, the FAA published in the Federal Register a notice of proposed rulemaking (NPRM), (81 FR 42293) Docket FAA-2016-6984, to modify Class E airspace extending upward from 700 feet above the surface at McNary Field, Salem, OR, to provide additional airspace to support the Localizer (LOC) Y runway (RWY) 31, and the LOC/Distance Measuring Equipment (DME) Back Course (BC) approach to RWY 13. Interested parties were invited to participate in this rulemaking effort by submitting written comments on the proposal to the FAA. Ten comments were received.

Discussion of Comments

There were ten comments received from seven commenters; one individual provided three separate comments. One comment was a duplicate and one provided feedback on the two earlier final rules and not the current proposal. To the extent that commenters raised concerns pertaining to the earlier airspace actions (e.g., modifications to Class D airspace), the FAA notes that those comments are outside the scope of this proposal.

One commenter supported the current proposal. Six commenters requested the airspace be returned to the configuration that existed prior to August 20, 2015. The FAA does not agree; the airspace that existed prior to August 20, 2015 did not comply with FAA Order 7400.2K, Procedures for Handling Airspace Matters in that it overstated some airspace areas necessary for Instrument Flight Rules (IFR) arrivals and did not provide sufficient airspace in other areas to protect IFR departures until reaching 700 feet above the surface due to rising terrain.

Four commenters recommended the use of Class E4 arrival extensions. The FAA does not agree. FAA Order 7400.2 states that Class E4 arrival extensions are to be employed at the point where an aircraft descends below 1,000 feet if it is farther than two miles from, and outside the surface airspace. IFR aircraft at McNary Field, Salem, OR, descend to 1,000 feet above ground level within Class D airspace on all approaches.

Four commenters cited that the FAA did not comply with guidance in five of their own directives: FAA Orders 8260.3C, United States Standard for Terminal Instrument Procedures (TERPS); 8200.44A, Flight Inspection Services Instrument Flight Procedure Coordination; 8260.19G, Flight Procedures and Airspace; 8260.26F, Establishing Submission Cutoff Dates for Civil Instrument Flight Procedures; and 7400.2K, Procedures for Handling Airspace Matters. No specific examples were provided, except two commenters stated the FAA was not in compliance with Order 7400.2K page 17-2-4 when designing the Class D airspace. The FAA disagrees as the current Class D airspace is in compliance with this guidance. Further, the Class D airspace is not relevant to this rulemaking action.

Class E airspace designations are published in paragraph 6005 of FAA Order 7400.11A, dated August 3, 2016, and effective September 15, 2016, which is incorporated by reference in 14 CFR part 71.1. The Class E airspace designation listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies Class E airspace extending upward from 700 feet above the surface at McNary Field, Salem, OR, by adding segments extending from the 6.7-mile radius to 13.50 miles northwest of the airport, and extending from the 8.2-mile radius to 16.5 miles southeast of the airport. After a review, the FAA discovered additional airspace was necessary to accommodate the LOC Y RWY 31, and the LOC/DME BC RWY 13 instrument approach procedures for the safety and management of IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6005 Class E Airspace Areas Extending Upward From 700 Feet or More Above the Surface of the Earth.

* * * * *

ANM OR E5 Salem, OR [Modified]

Salem, McNary Field, OR

(Lat. 44°54′34″ N., long. 123°00′09″ W.)

That airspace extending upward from 700 feet above the surface within a 6.2-mile radius of McNary Field from the 168° bearing from the airport clockwise to the 311° bearing from the airport, and that airspace within a 6.7-mile radius of McNary Field from the 311° bearing from the airport clockwise to the 074° bearing from the airport, and that airspace within an 8.2-mile radius of McNary Field from the 074° bearing from the airport clockwise to the 168° bearing from the airport, and that airspace 2 miles either side of the 330° bearing extending from the 6.7-mile radius of the airport to 13.5 miles northwest of the airport, and that airspace 4 miles southwest and 5 miles northeast of the 150° bearing extending from the 8.2-mile radius of the airport to 16.5 miles southeast of the airport.

Issued in Seattle, Washington, on January 19, 2017.
Tracey Johnson,
Manager, Operations Support Group, Western Service Center.

[FR Doc. 2017-02489 Filed 2-13-17; 8:45 am]

BILLING CODE 4910-13-P